Title 3—

The President

Proclamation 10703 of February 29, 2024

American Red Cross Month, 2024

By the President of the United States of America

A Proclamation

This month, we honor the American Red Cross for its humanitarian commitment to serve communities across the United States and around the world. We celebrate each and every selfless employee and volunteer as an ambassador of American generosity, who upholds a sacred mandate to leave no person behind.

Founded more than 140 years ago by Clara Barton, the American Red Cross has led with compassion and care, assisting neighbors and fellow Americans when they find themselves in some of the most agonizing circumstances they have ever faced. Throughout the biggest cities and the smallest towns, American Red Cross workers perform heroic acts of service across the United States and abroad. When wildfires devour neighborhoods, tornadoes uproot towns, earthquakes devastate homes and businesses, hurricanes whip beachfronts, and rivers rise and ruin neighborhoods and city streets, Red Cross volunteers are there to provide food, create temporary shelters, and help people recover and rebuild. While climate change has led to the increasing intensity and frequency of the world's natural disasters, Red Cross volunteers continue to serve as beacons of light, bringing hope to those facing some of the darkest hours and offering life-saving support at home and overseas.

During American Red Cross Month, I encourage everyone who is able to give blood and volunteer to help local communities in need. You can learn more about the process of donating blood online at redcross.org. Let us all use the dedication of the American Red Cross as an example this month and recommit in our own lives to lead with compassion and care. When we see others who are struggling, let us embody the generosity of the American spirit and resolve to lend them a helping hand.

NOW, THEREFORE, I, JOSEPH R. BIDEN JR., President of the United States of America and Honorary Chair of the American Red Cross, by virtue of the authority vested in me by the Constitution and the laws of the United States, do hereby proclaim March 2024 as American Red Cross Month. I encourage all Americans to observe this month with relevant programs, ceremonies, and activities and to support the work of service and relief organizations.

IN WITNESS WHEREOF, I have hereunto set my hand this twenty-ninth day of February, in the year of our Lord two thousand twenty-four, and of the Independence of the United States of America the two hundred and forty-eighth.

[FR Doc. 2024-04812

Filed 3-4-24; 11:15 am]

Billing code 3395-F4-P